ENVIRONMENTAL PROTECTION AGENCY

40 CFR Part 52

[MD008/052-3052; FRL-6845-8]

Approval and Promulgation of Air Quality Implementation Plans; Maryland ; Control of Iron and Steel Production Installations

AGENCY: Environmental Protection Agency (EPA).

ACTION: Direct final rule.

SUMMARY: EPA is taking direct final action to approve revisions to the Maryland State Implementation Plan (SIP). The revisions provide for the establishment of a visible emission standard applicable to blast furnaces constructed on or after January 1, 1977. In particular this revision effects the casthouse building at the “L” Blast Furnace at Bethlehem Steel Corporation—Sparrows Point Plant. EPA is approving these revisions in accordance with the requirements of the Clean Air Act.

DATES: This rule is effective on October 31, 2000 without further notice, unless EPA receives adverse written comment by October 2, 2000. If EPA receives such comments, it will publish a timely withdrawal of the direct final rule in the Federal Register and inform the public that the rule will not take effect.

ADDRESSES: Written comments should be mailed to Ms. Makeba A. Morris, Chief, Technical Assessment Branch, Mailcode 3AP22, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; Maryland Department of the Environment, 2500 Broening Highway, Baltimore, Maryland, 21224.

FOR FURTHER INFORMATION CONTACT: Ruth E. Knapp, (215) 814-2191, or by e-mail at knapp.ruth@epa.gov.

SUPPLEMENTARY INFORMATION:

I. Summary of the SIP Revision

On March 30, 1987 and on December 15, 1987, the State of Maryland submitted a formal revision to its State Implementation Plan (SIP). The SIP revision consists of an amendment to COMAR 10.18.10.03B(3) (currently COMAR 26.11.10.03B(2)) to add a visible emissions standard for blast furnaces constructed on or after January 1, 1977. In particular the revision effects the casthouse building at the “L” Blast Furnace at Bethlehem Steel Corporation's Sparrows Point Plant.

Bethlehem's Steel's “L” Blast Furnace functions to reduce iron ore to usable molten iron for further processing in a basic oxygen furnaces and open hearths. Particulate emissions from the casthouse are controlled by local hoods over the taphole, trough, skimmer and molten liquid transfer points and by a system of trough and runner covers. Whenever a taphole is open, the entire control system will normally be operational except the trough cover, which must be removed for brief periods to allow access for the taphole drill and for the mudgun. Fumes collected from the capture system of hoods and covers are exhausted into the baghouse that is subject to a no visible emission standard. It is estimated that particulate emissions from the casthouse in 1984 were 98 lbs/day.

The State of Maryland's SIP currently contains no measurable opacity limit on the “L” Blast Furnace. This revision affects only visible emissions from blast furnaces constructed on or after January 1, 1977. At the time of the revision, only one facility, Bethlehem Steel Corporation's “L” Blast Furnace Casthouse was effected by the change. The revision is based on 1984-1986 levels of production and effectiveness of control equipment at this facility. The standard is based on 35 separate visible emissions observations of the casthouse building taken during 1984-1986. Many of the observations were made while the “L” Blast Furnace was operating in the range of its original design capacity production rate. The new provision requires that the “L” Blast Furnace Casthouse and any blast furnace built on or after January 1, 1977 meet an opacity standard of 5% except during drilling, oxygen lancing, and plugging of furnace tapholes. During these periods, an opacity standard of 20% must be met.

II. Final Action

EPA is approving revisions to the Maryland SIP submitted on March 30, 1987 and December 15, 1987. The revisions to the COMAR 10.18.10 .03B(3) (currently COMAR 26.11.10.03B(2)) consist of an amendment to establish a visible emission standard for blast furnaces constructed on or after January 1, 1977. EPA is publishing this rule without prior proposal because the Agency views this as a noncontroversial amendment and anticipates no adverse comment. However, in the “Proposed Rules” section of today's Federal Register, EPA is publishing a separate document that will serve as the proposal to approve the SIP revision if adverse comments are filed. This rule will be effective on October 31, 2000 without further notice unless EPA receives adverse comment by October 2, 2000. If EPA receives adverse comment, EPA will publish a timely withdrawal in the Federal Register informing the public that the rule will not take effect. EPA will address all public comments in a subsequent final rule based on the proposed rule. EPA will not institute a second comment period on this action. Any parties interested in commenting must do so at this time.

III. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings”” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action, approving visible emission standards for blast furnaces at iron and steel installations built in the State of Maryland on or after January 1, 1977, must be filed in the United States Court of Appeals for the appropriate circuit by October 31, 2000. Filing a petition for reconsideration by the Administrator of this final rule does not affect the finality of this rule for the purposes of judicial review nor does it extend the time within which a petition for judicial review may be filed, and shall not postpone the effectiveness of such rule or action. This rule may not be challenged later in proceedings to enforce its requirements. (See section 307(b)(2).)

List of Subjects in 40 CFR Part 52

Environmental protection, Air pollution control, Incorporation by reference, Intergovernmental relations, Particulate matter, Reporting and recordkeeping requirements.

Thomas Voltaggio,
Acting Regional Administrator, Region III.

40 CFR part 52 is amended as follows:

PART 52—[AMENDED]

1. The authority citation for part 52 continues to read as follows:

Authority: 42 U.S.C. 7401 et seq.

Subpart V—Maryland

2. Section 52.1070 is amended by adding paragraphs (c)(150) to read as follows:

§ 52.1070 Identification of plan.

* * * * *

(c) * * *

(150 ) Revisions to the Maryland Regulations related to visible emissions standards for iron and steel installations submitted on March 30, 1987 and December 15, 1987 by the Maryland Department of Health and Mental Hygiene (currently known as the Maryland Department of the Environment):

(i) Incorporation by reference.

(A) Letters of March 30, 1987 and December 15, 1987 from the Maryland Department of Health and Mental Hygiene (currently known as the Maryland Department of the Environment) transmitting revisions related to visible emissions standards for iron and steel installations.

(B) Revisions to COMAR 10.18.10.03B(3) [currently COMAR 26.11.10.03B(2)], effective March 24, 1987.

(C) Revisions to COMAR 10.18.10.03B(3) [currently COMAR 26.11.10.03B(2)], effective January 5, 1988.

(ii) Additional Material. Remainder of the March 30, 1987 and December 15, 1987 submittals.

[FR Doc. 00-22375 Filed 8-31-00; 8:45 am]

BILLING CODE 6560-50-P